DEPARTMENT OF ENERGY

Federal Energy Regulatory Commission

[Docket No. EL16-29-000]

North Carolina Electric Membership Corporation, North Carolina Municipal Power Agency Number 1, Piedmont Municipal Power Agency, City of Concord, NC, City of Kings Mountain, NC v. Duke Energy Carolinas, LLC; Notice of Complaint

Take notice that on January 7, 2016, pursuant to Sections 206, 306, and 309 of the Federal Power Act (FPA), 16 U.S.C. 824e, 825e, and 825h (2012), and Rules 206 and 212 of the Federal Energy Regulatory Commission's (Commission) Rules of Practice and Procedure, 18 CFR 385.206 and 385.212 (2015), North Carolina Electric Membership Corporation, North Carolina Municipal Power Agency Number 1, Piedmont Municipal Power Agency, the City of Concord, North Carolina, and the City of Kings Mountain, North Carolina (Complainants) filed a formal complaint against Duke Energy Carolinas, LLC (DEC—Respondent) alleging that the 10.2% base return on common equity currently used to calculate DEC's annual transmission revenue requirement pursuant to Attachment H of the Joint Open Access Transmission Tariff of DEC, Duke Energy Florida, LLC, and Duke Energy Progress, LLC is unjust and unreasonable.

Complainants certify that copies of the complaint were served on the contacts for DEC as listed on the Commission's list of Corporate Officials as well as the North Carolina Utilities Commission and the South Carolina Public Service Commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 27, 2016.

Dated: January 8, 2016.
Nathaniel J. Davis, Sr.,
Deputy Secretary.

[FR Doc. 2016-00604 Filed 1-13-16; 8:45 am]

BILLING CODE 6717-01-P